DEPARTMENT OF LABOR

Employment and Training Administration

[TA-W-71,706]

Daimler Trucks North America, LLC, A Subsidiary of Daimler North America Corporation Gastonia Components and Logistics Division; Gastonia, NC; Amended Certification Regarding Eligibility To Apply for Worker Adjustment Assistance

In accordance with Section 223 of the Trade Act of 1974, as amended (“Act”), 19 U.S.C. 2273, the Department of Labor issued a Certification of Eligibility to Apply for Worker Adjustment Assistance on November 13, 2009, applicable to workers of Daimler Trucks North America, LLC, a subsidiary of Daimler North America Corporation, Gastonia Components and Logistics Division, Gastonia, North Carolina. The notice was published in the Federal Register on January 25, 2010 (75 FR 3935).

At the request of the State Agency, the Department reviewed the certification for workers of the subject firm. The workers produce truck parts and components for heavy trucks.

The review shows that on April 13, 2007, a certification of eligibility to apply for adjustment assistance was issued for all workers of Freightliner LLC, Parts Manufacturing Plant (PMP), Gastonia, North Carolina, separated from employment on or after March 7, 2006 through April 13, 2009. The notice was published in the Federal Register on April 26, 2007 (72 FR 20873).

In order to avoid an overlap in worker group coverage, the Department is amending the July 15, 2008 impact date established for TA-W-71,706, to read April 14, 2009.

The amended notice applicable to TA-W-71,706 is hereby issued as follows:

All workers of Daimler Trucks North America, LLC, a subsidiary of Daimler North America Corporation, Gastonia Components and Logistics Division, Gastonia, North Carolina, who became totally or partially separated from employment on or after April 14, 2009, through November 13, 2011, and all workers in the group threatened with total or partial separation from employment on date of certification through two years from the date of certification, are eligible to apply for adjustment assistance under Chapter 2 of Title II of the Trade Act of 1974, as amended.

Signed in Washington, DC, this 1st day of March 2010.
Michael W. Jaffe,
Certifying Officer, Division of Trade Adjustment Assistance.

[FR Doc. 2010-5309 Filed 3-11-10; 8:45 am]

BILLING CODE 4510-FN-P